NATIONAL SCIENCE FOUNDATION

Membership of the National Science Board's Senior Executive Service Performance Review Board

AGENCY: National Science Foundation.

ACTION: Announcement of Membership of the National Science Foundation's Performance Review Board for the Office of Inspector General and the National Science Board Office Senior Executive Service positions.

SUMMARY: This announcement of the membership of the National Science Foundation's Office of Inspector General and National Science Board Office Senior Executive Service Performance Review Board is made in compliance with 5 U.S.C. 4314(c)(4).

ADDRESSES: Comments should be addressed to Division Director, Division of Human Resource Management, National Science Foundation, Room 315, 4201 Wilson Boulevard, Arlington, VA 22230.

FOR FURTHER INFORMATION CONTACT: Dr. Judith S. Sunley at the above address or (703) 292-8180.

SUPPLEMENTARY INFORMATION: The membership of the National Science Board's Senior Executive Service Performance Review Board is as follows:

Ruth David, Chair, Audit and Oversight Committee, National Science Board

Joanne Tornow, Head, Office of Information and Resource Management, and Chief Human Capital Officer

Plus two members to be selected from the IG community.

Dated: October 2, 2015.
Judith S. Sunley,
Division Director, Division of Human Resource Management.

[FR Doc. 2015-25722 Filed 10-8-15; 8:45 am]

BILLING CODE 7555-01-M